DEPARTMENT OF HOMELAND SECURITY

U.S. Customs and Border Protection

Agency Information Collection Activities: Cargo Manifest/Declaration, Stow Plan, Container Status Messages and Importer Security Filing

AGENCY: U.S. Customs and Border Protection (CBP), Department of Homeland Security.

ACTION: 60-Day Notice and request for comments; Extension of an existing collection of information: 1651-0001.

SUMMARY: As part of its continuing effort to reduce paperwork and respondent burden, CBP invites the general public and other Federal agencies to comment on an information collection requirement concerning the Cargo Manifest/Declaration, Stow Plan, Container Status Messages and Importer Security Filing. This request for comment is being made pursuant to the Paperwork Reduction Act of 1995 (Pub. L. 104-13).

DATES: Written comments should be received on or before January 24, 2012, to be assured of consideration.

ADDRESSES: Direct all written comments to U.S. Customs and Border Protection, Attn: Tracey Denning, Regulations and Rulings, Office of International Trade, 799 9th Street NW., 5th Floor, Washington, DC 20229-1177.

FOR FURTHER INFORMATION CONTACT: Requests for additional information should be directed to Tracey Denning, U.S. Customs and Border Protection, Regulations and Rulings, Office of International Trade, 799 9th Street NW., 5th Floor, Washington, DC 20229-1177, at (202) 325-0265.

SUPPLEMENTARY INFORMATION: CBP invites the general public and other Federal agencies to comment on proposed and/or continuing information collections pursuant to the Paperwork Reduction Act of 1995 (Pub. L. 104-13). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or record keepers from the collection of information (a total capital/startup costs and operations and maintenance costs). The comments that are submitted will be summarized and included in the CBP request for Office of Management and Budget (OMB) approval. All comments will become a matter of public record. In this document CBP is soliciting comments concerning the following information collection.

Title: Cargo Manifest/Declaration, Stow Plan, Container Status Messages and Importer Security Filing.

OMB Number: 1651-0001.

Form Numbers: CBP Forms 1302, 1302A, 7509, 7533.

Abstract: CBP Form 1302: The master or commander of a vessel arriving in the United States from abroad with cargo on board must file CBP Form 1302, Inward Cargo Declaration, or submit the information on this form using a CBP-approved electronic equivalent. CBP form 1302 is part of the manifest requirements for vessels entering the United States and was agreed upon by treaty at the United Nations Inter-government Maritime Consultative Organization (IMCO). This form is provided for by 19 CFR 4.5, 4.7, 4.8, 4.33, 4.34, 4.84, 4.85, 4.86, 4.91 and 4.99. It is accessible at: http://forms.cbp.gov/pdf/CBP_Form_1302.pdf.

CBP Form 1302A: The master or commander of a vessel departing from the United States must file CBP Form 1302A, Cargo Declaration Outward With Commercial Forms, with copies of bills of lading or equivalent commercial documents relating to all cargo encompassed by the manifest. This form is provided for by 19 CFR 4.62, 4.63, 4.75, 4.82, and 4.87-4.89 and is accessible at: http://forms.cbp.gov/pdf/CBP_Form_1302.pdf.

CBP Form 7509: The aircraft commander or agent must file two copies of CBP Form 7509, Air Cargo Manifest, with CBP at the departure airport, or respondents may submit the information on this form using a CBP-approved electronic equivalent. CBP Form 7509 contains information about the cargo onboard the aircraft. This form is provided for by 19 CFR 122.35, 122.48, 122.52, 122.54, 122.73, 122.113, and 122.118 and is accessible at: http://forms.cbp.gov/pdf/CBP_Form_7509.pdf.

CBP Form 7533: The master or person in charge of a conveyance files CBP Form 7533, INWARD CARGO MANIFEST FOR VESSEL UNDER FIVE TONS, FERRY, TRAIN, CAR, VEHICLE, ETC, which is required for a vehicle or a vessel of less than 5 net tons arriving in the United States from Canada or Mexico, otherwise than by sea, with baggage or merchandise. Respondents may also submit the information on this form using a CBP-approved electronic equivalent. CBP Form 7533 is provided for by 19 CFR 123.4 and is accessible at: http://forms.cbp.gov/pdf/CBP_Form_7533.pdf.

Manifest Confidentiality: An importer or consignee may request confidential treatment of its name and address contained in manifests by following the procedure set forth in 19 CFR 103.31.

Vessel Stow Plan: For all vessels transporting goods to the U.S., except for any vessel exclusively carrying bulk cargo, the incoming carrier is required to electronically submit a vessel stow plan no later than 48 hours after the vessel departs from the last foreign port which includes information about the vessel and cargo. For voyages less than 48 hours in duration, CBP must receive the vessel stow plan prior to arrival at the first port in the U.S. The vessel stow plan is provided for by 19 CFR 4.7c.

Container Status Messages (CSMs): For all containers destined to arrive within the limits of a U.S. port from a foreign port by vessel, the incoming carrier must submit messages regarding the status of the events if the carrier creates or collects a container status message (CSM) in its equipment tracking system reporting that event. CSMs must be transmitted to CBP via a CBP-approved electronic data interchange system. These messages transmit information regarding events such as the status of a container (full or empty); booking a container destined to arrive in the U.S.; loading or unloading a container from a vessel; and a container arriving or departing the U.S. CSMs are provided for by 19 CFR 4.7d.

Importer Security Filing (ISF): For most cargo arriving in the U.S. by vessel, the importer, or its authorized agent, must submit the data elements listed in 19 CFR 149.3 via a CBP-approved electronic interchange system within prescribed time frames. Transmission of these data elements provide CBP with advanced information about the shipment.

Current Actions: CBP proposes to extend the expiration date of this information collection with no changes to the information collected on the forms or regulations included in this information collection request. However, CBP has revised its estimates of the burden hours and response times based on analysis of recent data as follows:

CBP Form 7509, Air Cargo Manifest: the time per response was lowered from 34 minutes to 15 minutes.

CBP Form 1302, Cargo Declaration: the time per response was raised from 10 minutes to 30 minutes.

Importer Security Filing: the number of total annual responses was lowered from 11,300,000 to 8,100,000.

Vessel Stow Plan: the number of respondents was lowered from 440 to 163.

Container Status Messages: the number of respondents was lowered from 74 to 60, and the number of total responses was raised from 72,121,193 to 257,100,000.

Type of Review: Extension (with change).

Affected Public: Businesses.

Estimates of the Burden Hours and Response Times
Collection | Total burden hours | Number of respondents | Number of responses per respondent | Total responses | Time per response
Air Cargo Manifest (CBP Form 7509) | 366,600 | 260 | 5,640 | 1,466,400 | 15 minutes.
Inward Cargo Manifest for Truck, Rail, Vehicles, Vessels, etc. (CBP Form 7533) | 963,056 | 33,000 | 291.8 | 9,630,555 | 6 minutes.
Cargo Declaration (CBP Form 1302) | 1,500,000 | 10,000 | 300 | 3,000,000 | 30 minutes.
Export Cargo Declaration (CBP Form 1302A) | 10,000 | 500 | 400 | 200,000 | 3 minutes.
Importer Security Filing | 17,739,000 | 240,000 | 33.75 | 8,100,000 | 2.19 hours.
Vessel Stow Plan | 31,862 | 163 | 109 | 17,800 | 1.79 hours.
Container Status Messages | 23,996 | 60 | 4,285,000 | 257,100,000 | .0056 minutes.
Request for Manifest Confidentiality | 1,260 | 5,040 | 1 | 5,040 | 15 minutes.
Total | 20,635,774 | 289,023 |  | 279,519,795 |

Dated: November 21, 2011.
Tracey Denning,
Agency Clearance Officer, U.S. Customs and Border Protection.

[FR Doc. 2011-30343 Filed 11-23-11; 8:45 am]

BILLING CODE 9111-14-P